DEPARTMENT OF ENERGY

Federal Energy Regulatory Commission

[Docket No. CP18-186-000]

Transcontinental Gas Pipe Line Company, LLC; Notice of Application

Take notice that on April 11, 2018, Transcontinental Gas Pipe Line Company, LLC (Transco), Post Office Box 1396, Houston, Texas, filed an application under sections 7(b) and 7(c) of the Natural Gas Act (NGA) and Part 157 of the Commission's regulations for a certificate of public convenience and necessity authorizing Transco's Southeastern Trail Project (Southern Trail). This system expansion project would enable Transco to provide an additional 296,375 dekatherms per day (Dt/d) of firm transportation service to five shippers, and to abandon certain compression facilities, all as more fully set forth in the application which is on file with the Commission and open to public inspection.

Southern Trail comprises the construction and operation of approximately 7.72 miles of new natural gas pipeline loop located along Transco's existing mainline; approximately 60,720 horsepower of additional compression at three existing facilities in Virginia (Compressor Station 185, Compressor Station 175, and Compressor Station 165), reversal and/or deodorization modifications at eight existing Mainline Facilities in South Carolina, Georgia, and Louisiana, and modifications at 13 existing Mainline Valve Sites in South Carolina and Georgia. The Project also includes the retirement and abandonment of 10 compressor units and related buildings and ancillary equipment at Transco's existing Compressor Station 165 in Pittsylvania County, Virginia.

Questions regarding this filing may be directed Andre Pereira, at (713) 215-4362, P.O. Box 1396, Houston, Texas 77251. In addition, Transco has established a toll-free telephone number, (713) 215-2264 so that parties can call with questions about Southern Trail, as well as an email support address (PipelineExpansion@williams.com).

This filing is available for review at the Commission's Washington, DC offices, or may be viewed on the Commission's website at http://www.ferc.gov using the e-Library link. Enter the docket number, excluding the last three digits, in the docket number field to access the document. For assistance, please contact FERC Online Support at FERCOnlineSupport@ferc.gov, or call toll-free at (866) 208-3676, or for TTY, contact (202) 502-8659.

There are two ways to become involved in the Commission's review of this Project. First, any person wishing to obtain legal status by becoming a party to the proceeding for this project should file with the Federal Energy Regulatory Commission, 888 First Street NE, Washington, DC 20426, a motion to intervene in accordance with the requirements of the Commission's Rules of Practice and Procedure, 18 CFR 385.214, 385.211 (2016), by the comment date below. A person obtaining party status will be placed on the service list maintained by the Secretary of the Commission, and will receive copies of all documents filed by the applicant and by all other parties. A party must submit filings made with the Commission by mail, hand delivery, or internet, in accordance with Rule 2001 of the Commission's Rules of Practice and Procedure, id. 385.2001. A copy must be served on every other party in the proceeding. Only parties to the proceeding can ask for court review of Commission orders in the proceeding.

However, a person does not have to intervene to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the internet in lieu of paper; see 18 CFR 385.2001(a)(1)(iii) and the instructions on the Commission's website under the e-filing link. The Commission strongly encourages electronic filings.

As of the February 27, 2018 date of the Commission's order in Docket No. CP16-4-001, the Commission will apply its revised practice concerning out-of-time motions to intervene in any new Natural Gas Act section 3 or section 7 proceeding.¹ Persons desiring to become a party to a certificate proceeding are to intervene in a timely manner. If seeking to intervene out-of-time, the movant is required to show good cause why the time limitation should be waived, and should provide justification by reference to factors set forth in Rule 214(d)(1) of the Commission's Rules and Regulations. ²

¹ Tennessee Gas Pipeline Company, L.L.C., 162 FERC 61,167 at 50 (2018).

² 18 CFR 385.214(d)(1).

If the Commission decides to set the application for a formal hearing before an Administrative Law Judge, the Commission will issue another notice describing that process. At the end of the Commission's review process, a final Commission order approving or denying the requested authorizations will be issued.

Comment Date: 5:00 p.m. Eastern Time, May 24, 2018.

Dated: April 24, 2018.
Kimberly D. Bose,
Secretary.

[FR Doc. 2018-09035 Filed 4-27-18; 8:45 am]

BILLING CODE 6717-01-P